FEDERAL COMMUNICATIONS COMMISSION

47 CFR Part 73

[DA 01-2263; MM Docket No. 01-269, RM-10249; MM Docket No. 01-270, RM-10277; MM Docket No. 01-271, RM-10278; MM Docket No. 01-272, RM-10279; MM Docket 01-273, RM-10284; MM Docket No. 01-274; RM-10286]

Radio Broadcasting Services; Antlers, OK; Matador, TX; Post, TX; Turkey, TX; Eldorado, TX; and Richland Springs, TX

AGENCY: Federal Communications Commission.

ACTION: Proposed rule.

SUMMARY: This document proposes six allotments to Antlers, Oklahoma, Matador, Texas; Post, Texas; Turkey, Texas; Eldorado, Texas; and Richland Springs, Texas. The Commission requests comments on a petition filed by Charles Crawford proposing the allotment of Channel 284A at Antlers, Oklahoma as the community's third local FM transmission service. Channel 284A can be allotted to Antlers in compliance with the Commission's minimum distance separation requirements with a site restriction of 6.6 kilometers (4.0 miles) north to avoid a short-spacing to the proposed site for Channel 282C3 at Boswell, Oklahoma. The coordinates for Channel 284A at Antlers are 34-17-16 North Latitude and 95-36-14 West Longitude. See Supplementary Information, infra.

DATES: Comments must be filed on or before November 19, 2001, and reply comments on or before December 4, 2001.

ADDRESSES: Federal Communications Commission, Washington, DC 20554. In addition to filing comments with the FCC, interested parties should serve the petitioner, his counsel, or consultant, as follows: Charles Crawford, 4553 Bordeaux Ave., Dallas, Texas 75205 (Petitioner for Antlers, Oklahoma); Katherine Pyeatt, 6655 Aintree Circle, Dallas Texas 75214 (Petitioner for Matador, Post and Turkey, Texas); and Linda Crawford, 3500 Maple Ave., #1320, Dallas, Texas (Petitioner for Eldorado and Richland, Texas).

FOR FURTHER INFORMATION CONTACT: Nancy Joyner, Mass Media Bureau (202)-418-2180.

SUPPLEMENTARY INFORMATION: This is a synopsis of the Commission's Notice of Proposed Rule Making, MM Docket No. 01-269; MM Docket No. 01-270; and MM Docket No. 01-271, MM Docket No. 01-272; MM Docket No. 01-273; and MM Docket No. 01-274; adopted September 19, 2001, and released September 28, 2001. The full text of this Commission decision is available for inspection and copying during normal business hours in the FCC Reference Information Center (Room CY-A257), 445 12th Street, SW., Washington, DC. The complete text of this decision may also be purchased from the Commission's copy contractor, Quatex International, Portals II, 445 12th Street, SW., Room CY-B402, Washington, DC 20554.

The Commission requests comments on a petition filed by Katherine Pyeatt proposing the allotment of Channel 221C2 at Matador, Texas, as the community's first local aural transmission service. Channel 221C2 can be allotted to Matador in compliance with the Commission's minimum distance separation requirements with a site restriction of 20.3 kilometers (12.6 miles) east to avoid a short-spacing to the application site for Channel 220C1 at Morton, Texas. The coordinates for Channel 221C2 at Matador are 34-03-56 North Latitude and 100-36-43 West Longitude.

The Commission requests comments on a petition filed by Katherine Pyeatt proposing the allotment of Channel 249C2 at Post, Texas, as the community's second local FM transmission service. Channel 249C2 can be allotted to Post in compliance with the Commission's minimum distance separation requirements with a site restriction of 15.8 kilometers (9.8 miles) east to avoid a short-spacing to the construction permit site for Station KHDY(FM), Channel 247C1, Plainview, Texas. The coordinates for Channel 249C2 at Post are 33-14-22 and North Latitude 101-13-06 West Longitude.

The Commission requests comments on a petition filed by Katherine Pyeatt proposing the allotment of Channel 244C2 at Turkey, Texas, as the community's first local aural transmission service. Channel 244C2 can be allotted to Turkey in compliance with the Commission's minimum distance separation requirements with a site restriction of 27.1 kilometers to avoid a short-spacing to the licensed site of Station KMML-FM, Channel 245C1, Amarillo, Texas. The coordinates for Channel 244C2 at Turkey are 34-10-06 North Latitude and 100-46-46 West Longitude.

The Commission requests comments on a petition filed by Linda Crawford proposing the allotment of Channel 258C1 at Eldorado, Texas, as the community's second local FM transmission service. Channel 258C1 can be allotted to Eldorado in compliance with the Commission's minimum distance separation requirements with a site restriction of 7.4 kilometers (4.8 miles) south to avoid a short-spacing to the licensed site of Station KYZZ(FM), Channel 261C2, San Angel, Texas. The coordinates for Channel 258C1 at Eldorado are 30-47-49 North Latitude and 100-37-29 West Longitude. Since Eldorado is located within 320 kilometers (199 miles) of the U.S.-Mexican border, concurrence of the Mexican government has been requested.

The Commission requests comments on a petition filed by Linda Crawford proposing the allotment of Channel 252A at Richland Springs, Texas, as potentially the community's second local FM transmission service. Channel 252A can be allotted to Richland Springs in compliance with the Commission's minimum distance separation requirements at city reference coordinates. The coordinates for Channel 252A at Richland Springs are 31-16-10 North Latitude and 98-56-41 West Longitude. Since Richland Springs is located within 320 kilometers (199 miles) of the U.S.-Mexican border, concurrence of the Mexican government has been requested.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1.The authority citation for Part 73 continues to read as follows:

Authority: 47 U.S.C. 154, 303, 334 and 336.

§ 73.202 [Amended]

2.Section 73.202(b), the Table of FM Allotments under Oklahoma, is amended by adding Channel 284A at Antlers.

3. Section 73.202(b), the Table of FM Allotments under Texas, is amended by adding Matador, Channel 221C2; by adding Channel 249C2 at Post; by adding Turkey, Channel 244C2; by adding Channel 258C2 at Eldorado; and by adding Richland Springs, Channel 252A.

Federal Communications Commission.
John A. Karousos,
Chief, Allocations Branch, Policy and Rules Division, Mass Media Bureau.

[FR Doc. 01-26060 Filed 10-16-01; 8:45 am]

BILLING CODE 6712-01-P